DEPARTMENT OF HEALTH AND HUMAN SERVICES

Substance Abuse and Mental Health Services Administration

Fiscal Year (FY) 2022 Notice of Supplemental Funding Opportunity

AGENCY: Substance Abuse and Mental Health Services Administration, HHS.

ACTION: Notice of intent to award supplemental funding.

SUMMARY: This is a notice of intent to award supplemental funding to the National Training and Technical Assistance Center for Certified Community Behavioral Health Clinics—Expansion Grant (TTA-CCBHC) recipient funded in FY 2021 under Funding Opportunity Announcement SM-21-015. This is to inform the public that the Substance Abuse and Mental Health Services Administration (SAMHSA) is supporting an administrative supplement, which is consistent with the initial award, of up to $150,000 for one-year to the TTA-CCBHC recipient, The National Council for Mental Wellbeing. This supplement will provide support to new Certified Community Behavioral Health (CCBHC) recipients that have opted to participate in the SAMHSA/NIH Evidence-Based Practices Implementation Science Pilot as noted in the Notice of Funding Opportunities (NOFOs) in FY 2022, CCBHC-Planning, Development, and Implementation (SM-22-002) and CCBHC-Improvement and Advancement (SM-22-012). The technical assistance will provide the following: (1) support to SAMHSA and CCBHC grant recipients to develop capacity and the ability to implement and sustain effective treatment and practices; (2) support delivery of evidence-based practices with fidelity; and (3) identification and/or development of resources that can be used by CCBHC recipients to augment the implementation of effective practices in alignment with the CCBHC certification criteria. This is not a formal request for application. Assistance will only be provided to the TTA-CCBHC recipient, The National Council for Mental Wellbeing, based on the receipt of a satisfactory application and associated budget. This recipient was funded in FY 2021 under Funding Opportunity Announcement SM-21-015 with a project end date of September 29, 2026.

FOR FURTHER INFORMATION CONTACT: Mary Blake, Substance Abuse and Mental Health Services Administration, 5600 Fishers Lane, Rockville, MD 20857, telephone (240) 276-1747; email: mary.blake@samhsa.hhs.gov.

SUPPLEMENTARY INFORMATION:

Funding Opportunity Title: FY 2021 National Training and Technical Assistance Center for Certified Community Behavioral Health Clinics—Expansion Grant (SM-21-015).

Assistance Listing Number: 93.243.

Justification: Eligibility for this supplemental funding is limited to The National Council for Mental Wellbeing which was funded in FY 2021 under the National Training and Technical Assistance Center for Certified Community Behavioral Health Clinics—Expansion Grant. The National Council for Mental Wellbeing has special expertise in completing activities that support SAMHSA-funded CCBHC grant recipients and their ability to effectively implement evidence-based and effective practices in alignment with the CCBHC Certification Criteria.

Authority: Section 520A of the Public Health Service Act, as amended.

Carlos Graham,
Reports Clearance Officer.

[FR Doc. 2022-18802 Filed 8-30-22; 8:45 am]

BILLING CODE 4162-20-P